Memorandum of January 3, 2025

Designation of Officials of the United States Agency for International Development To Act as Administrator

Memorandum for the Administrator of the United States Agency for International Development

By the authority vested in me as President by the Constitution and the laws of the United States of America, including the Federal Vacancies Reform Act of 1998, as amended, 5 U.S.C. 3345 et seq. (the “Act”), it is hereby ordered that:

Section 1. Order of Succession. Subject to the provisions of section 2 of this memorandum, and to the limitations set forth in the Act, the following officials of the United States Agency for International Development (USAID), in the order listed, shall act as and perform the functions and duties of the office of the Administrator of USAID (Administrator) during any period in which the Administrator has died, resigned, or otherwise become unable to perform the functions and duties of the office of Administrator:

(a) Deputy Administrator for Management and Resources;

(b) Deputy Administrator for Policy and Programming; and

(c) The Assistant Administrators for the Bureaus, in the chronological order in which they were appointed as an Assistant Administrator and, if Assistant Administrators were appointed on the same day, in alphabetical order by last name.

Sec. 2. Exceptions. (a) No individual who is serving in an office listed in section 1 of this memorandum in an acting capacity shall, by virtue of so serving, act as Administrator pursuant to this memorandum.

(b) No individual who is serving in an office listed in section 1 of this memorandum shall act as Administrator unless that individual is otherwise eligible to so serve under the Act.

(c) Notwithstanding the provisions of this memorandum, the President retains discretion, to the extent permitted by law, to depart from this memorandum in designating an acting Administrator.

Sec. 3. Revocation. The Presidential Memorandum of December 9, 2008 (Designation of Officers of the United States Agency for International Development to Act as Administrator), is hereby revoked.

Sec. 4. General Provisions. (a) Nothing in this memorandum shall be construed to impair or otherwise affect:

(i) the authority granted by law to an executive department or agency, or the head thereof; or

(ii) the functions of the Director of the Office of Management and Budget relating to budgetary, administrative, or legislative proposals.

(b) This memorandum shall be implemented consistent with applicable law and subject to the availability of appropriations.

(c) This memorandum is not intended to, and does not, create any right or benefit, substantive or procedural, enforceable at law or in equity by any party against the United States, its departments, agencies, or entities, its officers, employees, or agents, or any other person.

(d) You are authorized and directed to publish this memorandum in the Federal Register.

THE WHITE HOUSE,

Washington, January 3, 2025

[FR Doc. 2025-00675

Filed 1-10-25; 8:45 am]

Billing code 6116-01-P